DEPARTMENT OF TRANSPORTATION

Federal Aviation Administration

14 CFR Part 39

[Docket No. FAA-2004-18579; Directorate Identifier 2004-CE-19-AD; Amendment 39-13856; AD 2004-23-01]

RIN 2120-AA64

Airworthiness Directives; Pilatus Aircraft Ltd. Model PC-7 Airplanes

AGENCY: Federal Aviation Administration (FAA), DOT.

ACTION: Final rule.

SUMMARY: The FAA adopts a new airworthiness directive (AD) for certain Pilatus Aircraft Ltd. (Pilatus) Model PC-7 airplanes with any Lear Romec RR53710B type or Lear Romec RR53710K fuel booster pump (Pilatus part number 968.84.11.401; 968.84.11.403; or 968.84.11.404) installed. This AD requires you to check the airplane logbook to determine whether any installed fuel booster pump has been modified with spiral wrap to protect the wire leads and has the suffix letter “B” added to the serial number of the fuel booster pump identification plate. If any installed fuel booster pump has not been modified, you are required to inspect any installed fuel booster pump wire lead for defects; if defects are found, replace the fuel booster pump with a modified fuel booster pump with spiral wrap that protects the wire leads; or if no defects are found, install spiral wrap to protect any wire leads and add the suffix letter “B” to the serial number of the fuel booster pump identification plate. The pilot is allowed to do the logbook check. If the pilot can positively determine that the fuel booster pump wire leads with spiral wrap are installed following the service information and that the suffix letter “B” is included in the serial number of the fuel booster pump identification plate, no further action is required. This AD is the result of mandatory continuing airworthiness information (MCAI) issued by the airworthiness authority for Switzerland. We are issuing this AD to detect and correct any defects in the leads of any fuel booster pump, which could result in electrical arcing. This failure could lead to a fire or explosion in the fuel tank.

DATES: This AD becomes effective on December 27, 2004.

As of December 27, 2004, the Director of the Federal Register approved the incorporation by reference of certain publications listed in the regulation.

ADDRESSES: To get the service information identified in this AD, contact Pilatus Aircraft Ltd., Customer Liaison Manager, CH-6371 Stans, Switzerland; telephone: +41 41 619 6208; facsimile: +41 41 619 7311; e-mail: SupportPC12@pilaltus-aircraft.com or from Pilatus Business Aircraft Ltd., Product Support Department, 11755 Airport Way, Broomfield, Colorado 80021; telephone: (303) 465-9099; facsimile: (303) 465-6040. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-18579.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Federal Office for Civil Aviation (FOCA), which is the airworthiness authority for Switzerland, recently notified FAA that an unsafe condition may exist on certain Pilatus Model PC-7 airplanes. The FOCA reports that there have been 11 reports of damaged fuel boost pump wire leads from 9 Model PC-12 airplanes that have a similar type design. Further, the FOCA reports that it is possible that the wire leads to the left and right fuel pumps are damaged. This could possibly cause electrical arcs from the leads in an air/fuel mixture.

What is the potential impact if FAA took no action? Any electrical arcing could lead to a fire or explosion in the fuel tank.

Has FAA taken any action to this point? We issued a proposal to amend part 39 of the Federal Aviation Regulations (14 CFR part 39) to include an AD that would apply to certain Pilatus Model PC-7 airplanes with any Lear Romec RR53710B type or Lear Romec RR53710K fuel booster pump (Pilatus part number 968.84.11.401; 968.84.11.403; or 968.84.11.404) installed. This proposal was published in the Federal Register as a notice of proposed rulemaking (NPRM) on August 20, 2004 (69 FR 516161). The NPRM proposed to require you to check the airplane logbook to determine whether any installed fuel booster pump has been modified with spiral wrap to protect the wire leads and has the suffix letter “B” added to the serial number of the fuel booster pump identification plate. If any installed fuel booster pump has not been modified, you are required to inspect any installed fuel booster pump wire lead for defects; if defects are found, replace the fuel booster pump with a modified fuel booster pump with spiral wrap that protects the wire leads; or if no defects are found, install spiral wrap to protect any wire leads and add the suffix letter “B” to the serial number of the fuel booster pump identification plate. The pilot is allowed to do the logbook check. If the pilot can positively determine that the fuel booster pump wire leads with spiral wrap are installed following the service information and that the suffix letter “B” is included in the serial number of the fuel booster pump identification plate, no further action is required.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 10 airplanes in the U.S. registry.

What is the cost impact of this AD on owners/operators of the affected airplanes? We estimate the following costs to do the inspection:

Labor cost | Parts cost | Total cost per airplane | Total cost on U.S. operators
1 workhour × $65 per hour = $65 | Not applicable | $65 | $65 × 10 = $650.

We estimate the following costs to do any necessary replacement of any fuel boost pump, including the installation of any wire wrap, that will be required based on the results of the inspection. We have no way of determining the number of airplanes that may need this installation:

Labor cost | Parts cost | Total cost per airplane
5 workhours × $65 per hour = $325 | $2,800 for each fuel booster pump | $2,800 × $325 = $3,125 for each fuel booster pump installation.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-18579; Directorate Identifier 2004-CE-19-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-23-01 Pilatus Aircraft Ltd.: Amendment 39-13856; Docket No. FAA-2004-18579; Directorate Identifier 2004-CE-19-AD.

When Does This AD Become Effective?

(a) This AD becomes effective on December 27, 2004.

What Other ADs Are Affected by This Action?

(b) None.

What Airplanes Are Affected by This AD?

(c) This AD affects Model PC-7 airplanes, serial numbers 101 through 618, that are:

(1) equipped with Lear Romec RR53710B type or Lear Romec RR53710K fuel booster pump, Pilatus part number (P/N) 968.84.11.401; 968.84.11.403; or 968.84.11.404; and

(2) certificated in any category.

What Is the Unsafe Condition Presented in This AD?

(d) This AD is the result of mandatory continuing airworthiness information (MCAI) issued by the airworthiness authority for Switzerland. The actions specified in this AD are intended to detect and correct any defects in the leads of any fuel booster pump, which could result in electrical arcing. This failure could lead to a fire or explosion in the fuel tank.

What Must I Do To Address This Problem?

(e) To address this problem, you must do the following:

Actions | Compliance | Procedures
(1) Check the airplane logbook to to ensure that any fuel booster pump (part number (P/N) 968.84.11.401; 968.84.11.403; or 968.84.11.404) has been modified with spiral wrap to protect the wire leads and has the suffix letter “B” added to the serial number of the fuel booster pump identification plate as required by paragraph (e)(5) of this AD | Within 50 hours time-in-service (TIS) after December 27, 2004 (the effective date of this AD), unless already done | The owner/operator holding at least a private pilot certificate as authorized by section 43.7 of the Federal Aviation Regulations (14 CFR 43.7) may perform this check.
(2) If you can positively determine that any fuel booster pump (P/N 968.84.11.401; 968.84.11.403; or 968.84.11.404) has been modified following the Accomplishment Instructions—Aircraft section in Pilatus PC-7 Service Bulletin No. 28-009, dated October 6, 2003, and has the suffix letter “B” added to the serial number of the fuel booster pump identification plate as required by paragraph (e)(5) of this AD, then no further action is required | Not Applicable | Make logbook entry.
(3) Inspect any fuel booster pump (P/N 968.84.11.401; 968.84.11.403; or 968.84.11.404) leads for any defects | Within 50 hours TIS after December 27, 2004 (the effective date of this AD), unless already done | Follow the Accomplishment Instructions—Aircraft section in Pilatus PC-7 Service Bulletin No. 28-009, dated October 6, 2003. This subject is also addressed in the Pilatus PC-7 Airplane Maintenance Manual.
(4) If any defect is found during the inspection required by paragraph (e)(3) of this AD, replace the fuel booster pump | Before further flight after the inspection required by paragraph (e)(3) of this AD in which any defect is found | Follow the Accomplishment Instructions—Aircraft section in Pilatus PC-7 Service Bulletin No. 28-009, dated October 6, 2003. This subject is also addressed in the Pilatus PC-7 Airplane Maintenance Manual.
(5) If no defects are found during the inspection required by paragraph (e)(3) of this AD, modify any fuel booster pump (P/N 968.84.11.401; 968.84.11.403; or 968.84.11.404) by installing the lead inspection by using a spiral wrap. After doing the modification, re-identify the fuel booster pump (P/N 968.84.11.401; 968.84.11.403; or 968.84.11.404) by adding the suffix letter “B” to the serial number of the fuel booster pump identification plate | Before further flight after the inspection required by paragraph (e)(3) of this AD where no defect is found | Follow the Accomplishment Instructions—Aircraft section in Pilatus PC-7 Service Bulletin No. 28-009, dated October 6, 2003. This subject is also addressed in the Pilatus PC-7 Airplane Maintenance Manual.
(6) Do not install any fuel booster pump (P/N 968.84.11.401; 968.84.11.403; or 968.84.11.404) that has not been modified and identified with the suffix letter “B” to the serial number of the fuel booster pump identification plate | As of December 27, 2004 (the effective date of this AD) | Follow the Accomplishment Instructions—Spares section in Pilatus PC-7 Service Bulletin No. 28-009, dated October 6, 2003.

Note 1: The FAA recommends that you incorporate Pilatus PC-7 Maintenance Manual No. 28-20-03, dated November 30, 2003, and Pilatus PC-7 Maintenance Manual No. 12-10-01, dated November 30, 2003, in the appropriate section of the airplane maintenance manual.

Note 2: Wiring defects are addressed in paragraph 11-97 in FAA Advisory Circular (AC) 43.13-1B.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

Is There Other Information That Relates to This Subject?

(g) Swiss AD Number HB-2004-210, issue dated June 11, 2004, also addresses the subject of this AD.

Does This AD Incorporate Any Material by Reference?

(h) You must do the actions required by this AD following the instructions in Pilatus PC-7 Service Bulletin No. 28-009, dated October 6, 2003. The Director of the Federal Register approved the incorporation by reference of this service bulletin in accordance with 5 U.S.C. 552(a) and 1 CFR part 51. To get a copy of this service information, contact Pilatus Aircraft Ltd., Customer Liaison Manager, CH-6371 Stans, Switzerland; telephone: +41 41 619 6208; facsimile: +41 41 619 7311; e-mail: SupportPC12@pilaltus-aircraft.com or from Pilatus Business Aircraft Ltd., Product Support Department, 11755 Airport Way, Broomfield, Colorado 80021; telephone: (303) 465-9099; facsimile: (303) 465-6040. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-18579.

Issued in Kansas City, Missouri, on October 29, 2004.
David R. Showers,
Acting Manager, Small Airplane Directorate, Aircraft Certification Service.

[FR Doc. 04-24717 Filed 11-8-04; 8:45 am]

BILLING CODE 4910-13-P